DEPARTMENT OF THE INTERIOR

National Park Service

National Register of Historic Places; Notification of Pending Nominations and Related Actions

Nominations for the following properties being considered for listing or related actions in the National Register were received by the National Park Service before June 17, 2006.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by July 18, 2006.

John W. Roberts,
Acting Chief, National Register/National Historic Landmarks Program.

NEBRASKA

Hall County

Giese, Heinrich, House, 2226 South Blaine, Grand Island, 06000641

Rock County

Bassett Lodge and Range Cafe, 205 Clark, Bassett, 06000640

NEW YORK

Essex County

Flat Rock Camp, (Great Camps of the Adirondacks TR), 7 Willsboro Point Rd., Willsboro, 06000642

Onondaga County

Borodino Hall, 1861 E. Lake Rd., Borodino, 06000647

Orange County

Sterling Mountain Fire Observation Tower and Observer's Cabin, Sterling Forest State Park, Greenwood Lake, 06000644

Rockland County

Washington Avenue Soldier's Monument and Triangle, Washington Avenue Triangle (Jct. of ashington and Lafayette Aves.), Suffern, 06000646

Suffolk County

Karpen House, 3 Harber Hill Dr., Lloyd Harbor, 06000643

Ulster County

LeFevre, Abraham and Maria, House, 56 Forest Glen Rd., Gardiner, 06000645

Washington County

Baker—Merrill House, 38 Grove Rd., Easton, 06000650

Hebron Valley Grange No. 1103, 3185 Cty Rte 30, West Hebron, 06000649

Westchester County

St. Augustine's Episcopal Church Complex, 6 Old Post Rd. N., Croton-on-Hudson, 06000648

TENNESSEE

Sumner County

Durham's Chapel Baptist Church, Cemetery and School, (Rural African-American Churches in ennessee MPS) 5055 Old TN 31E, Bethpage, 06000652

TEXAS

Dallas County

Bluitt Sanitarium, 2036 Commerce St., Dallas, 06000651

WEST VIRGINIA

Jefferson County

York Hill, 1583 Ridge Rd., Shenandoah Junction, 06000654

Marion County

Colonial Apartments, 2 E. Garden Ln., Fairmont, 06000653

Mineral County

Travelers Rest, 1 mi. E of Ridgeville on U.S. 50, Burlington, 06000655

A request for REMOVAL has been made for the following resource:

COLORADO

Bent County

Columbian School, 1026 W. 6th St., Las Animas, 04000665

[FR Doc. E6-10322 Filed 6-30-06; 8:45 am]

BILLING CODE 4312-51-P